DEPARTMENT OF TRANSPORTATION

Federal Aviation Administration

14 CFR Part 25

[Docket No. FAA-2019-0329; Notice No. 25-19-06-SC]

Special Conditions: The Boeing Company (Boeing) Model 777-9 Series Airplane; Interior Design To Facilitate Searches for Passenger Cabin High Wall Suites

AGENCY: Federal Aviation Administration (FAA), DOT.

ACTION: Notice of proposed special conditions.

SUMMARY: This action proposes special conditions for The Boeing Company (Boeing) Model 777-9 series airplane. This airplane will have novel or unusual design features when compared to the state of technology envisioned in the airworthiness standards for transport category airplanes. These design features are passenger cabins with high wall suites (HWS). The applicable airworthiness regulations do not contain adequate or appropriate safety standards for this design feature. These proposed special conditions contain the additional safety standards that the Administrator considers necessary to establish a level of safety equivalent to that established by the existing airworthiness standards.

DATES: Send comments on or before September 23, 2019.

ADDRESSES: Send comments identified by Docket No. FAA-2019-0329 using any of the following methods:

• Federal eRegulations Portal: Go to http://www.regulations.gov/ and follow the online instructions for sending your comments electronically.

• Mail: Send comments to Docket Operations, M-30, U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: The FAA will post all comments it receives, without change, to http://www.regulations.gov/, including any personal information the commenter provides. Using the search function of the docket website, anyone can find and read the electronic form of all comments received into any FAA docket, including the name of the individual sending the comment (or signing the comment for an association, business, labor union, etc.). DOT's complete Privacy Act Statement can be found in the Federal Register published on April 11, 2000 (65 FR 19477-19478).

Docket: Background documents or comments received may be read at http://www.regulations.gov/ at any time. Follow the online instructions for accessing the docket or go to Docket Operations in Room W12-140 of the West Building Ground Floor at 1200 New Jersey Avenue SE, Washington, DC, between 9 a.m. and 5 p.m., Monday through Friday, except Federal holidays.

FOR FURTHER INFORMATION CONTACT: Shannon Lennon, Airframe and Cabin Safety Section, AIR-675, Transport Standards Branch, Policy and Innovation Division, Aircraft Certification Service, Federal Aviation Administration, 2200 South 216th Street, Des Moines, Washington 98198; telephone and fax 206-231-3209; email shannon.lennon@faa.gov.

SUPPLEMENTARY INFORMATION:

Comments Invited

The FAA invites interested people to take part in this rulemaking by sending written comments, data, or views. The most helpful comments reference a specific portion of the special conditions, explain the reason for any recommended change, and include supporting data.

The FAA will consider all comments we receive by the closing date for comments. The FAA may change these special conditions based on the comments received.

Background

On April 24, 2018, Boeing applied for an amendment to Type Certificate No. T00001SE to include the new Model 777-9 series airplane. The Boeing Model 777-9 series airplane, which is a derivative of the 777-300ER currently approved under Type Certificate No. T00001SE, is a twin-engine, transport category airplane with seating for up to 495 passengers depending upon airplane configuration, and a maximum takeoff weight of approximately 775,000 lbs.

Type Certification Basis

Under the provisions of title 14, Code of Federal Regulations (14 CFR) 21.101, Boeing must show that the Model 777-9 series airplane, continues to meet the applicable provisions of part 25, as amended by amendments 139 through 141, and the regulations listed in Type Certificate No. T00001SE, or the applicable regulations in effect on the date of application for the change, except for earlier amendments as agreed upon by the FAA.

If the Administrator finds that the applicable airworthiness regulations (i.e., 14 CFR part 25) do not contain adequate or appropriate safety standards for the Boeing Model 777-9 series airplane because of a novel or unusual design feature, special conditions are prescribed under the provisions of § 21.16.

Special conditions are initially applicable to the model for which they are issued. Should the type certificate for that model be amended later to include any other model that incorporates the same novel or unusual design feature, these special conditions would also apply to the other model under § 21.101.

In addition to the applicable airworthiness regulations and special conditions, the Boeing Model 777-9 series airplane must comply with the continued airworthiness and safety improvement requirements for transport category airplanes of 14 CFR part 26, the fuel vent and exhaust emission requirements of 14 CFR part 34, and the noise certification requirements of 14 CFR part 36.

The FAA issues special conditions, as defined in 14 CFR 11.19, in accordance with § 11.38, and they become part of the type certification basis under § 21.101.

Novel or Unusual Design Features

The Boeing Model 777-9 series airplane will incorporate the following novel or unusual design features:

This airplane will include a passenger cabin with six HWS arranged in two rows of three suites each in a 1-1-1 configuration. Each HWS has a door and walls that extend from the floor to the ceiling or close to the ceiling. The characteristics of the HWS design are unique such that the suites are not fully open to the cabin (such as for conventional mini-suites with partial height surrounds). They are not remote from the main cabin, as are overhead crew rest areas, for example.

Discussion

This Boeing Model 777-9 series airplane HWS design is unique to part 25 since its design was not specifically considered during the development of § 25.795(c)(3), which requires that the interior design of the airplane deter the easy concealment of weapons, explosives, or other objects, and lessen the likelihood of overlooking such items during a search. Transport category airplanes contain many areas that are not readily visible, but are readily accessible. For example, areas above stowage bins may not be easily visible when conducting a search due to light fixtures that could inhibit both the visual and physical inspection, but these areas could be accessible places to hide an explosive device. The wall-to-blended ceiling interfaces presented in the HWS designs are similar to overhead bin designs with respect to such challenges associated with conducting searches. However, as opposed to areas above overhead bins, which could exist in continuous sections in the passenger cabin, the search challenges associated with HWS designs may be limited when there are a relatively small number of installed suites.

In consideration of the proposed HWS design, an installation incorporating six suites or less limits the search challenges due to the limited overhead area involved, which is similar to the search area presented by installation of a monument complex, for example. Installations incorporating six suites present a large overhead area that closely resembles the large overhead bin areas currently addressed by the rule and associated guidance material. Since the development of HWS designs were not specifically considered during development of the rule, a unique set of special conditions are needed for interior configurations incorporating HWS.

These proposed special conditions contain the additional safety standards that the Administrator considers necessary to establish a level of safety equivalent to that established by the existing airworthiness standards. Existing airworthiness regulations do not contain adequate standards to address this feature.

Applicability

As discussed above, these special conditions are applicable to the Boeing Model 777-9 series airplanes with HWS installed. Should Boeing apply at a later date for a change to the type certificate to include another model incorporating the same novel or unusual design feature, these special conditions would apply to that model as well.

Conclusion

This action affects only certain novel or unusual design features on one model series airplane. It is not a rule of general applicability.

List of Subjects in 14 CFR Part 25

Aircraft, Aviation safety, Reporting and recordkeeping requirements.

Authority Citation

The authority citation for these special conditions is as follows:

Authority: 49 U.S.C. 106(f), 106(g), 40113, 44701, 44702, 44704.

The Proposed Special Conditions

Accordingly, the Federal Aviation Administration (FAA) proposes the following special conditions as part of the type certification basis for the Boeing Model 777-9 series airplanes with HWS installed. These conditions are in addition to existing FAA Special Condition No. 25-703-SC published in the Federal Register on October 26, 2017 (82 FR 49492).

Interior Design To Facilitate Searches for Passenger Cabin High Wall Suites

1. The area above each HWS must be designed such that there should be no hazards to a person performing a physical search above the HWS (e.g., no hot surfaces, no sharp edges, and no corners).

2. Where there are more than six (6) HWS installed on the aircraft, design features must be incorporated that will deter concealment or promote discovery of weapons, explosives, or objects from a simple inspection. Areas above the HWS must be designed to prevent objects from being hidden from view in a simple search from the aisle.

3. Guidance. The associated guidance material presented in Advisory Circular 25.795-8, Interior Design to Facilitate Searches, dated October 24, 2008, for airplane interiors can also be applied to HWS designs.

Issued in Des Moines, Washington, on July 22, 2019.
Victor Wicklund,
Manager, Transport Standards Branch, Policy and Innovation Division, Aircraft Certification Service.

[FR Doc. 2019-17091 Filed 8-8-19; 8:45 am]

BILLING CODE 4910-13-P